NUCLEAR REGULATORY COMMISSION

[NRC-2017-0102]

Superseded or Outdated Generic Communications

AGENCY: Nuclear Regulatory Commission.

ACTION: Generic communications; withdrawal.

SUMMARY: The U.S. Nuclear Regulatory Commission (NRC) is withdrawing the selected generic communications because their guidance no longer provides useful information, their guidance is superseded by updated guidance, or the information can be more effectively made available to interested stakeholders by other means.

DATES: The effective date of the withdrawals is April 18, 2017.

ADDRESSES: Please refer to Docket ID NRC-2017-0102 when contacting the NRC about the availability of information regarding this document. You may obtain publicly-available information related to this document using any of the following methods:

• Federal Rulemaking Web site: Go to http://www.regulations.gov and search for Docket ID NRC-2017-0102. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain-publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Erika A. Lee, Office of Nuclear Reactor Regulation, U.S. Nuclear Regulatory Commission, Washington, DC 20555-0001; telephone: 301-415-2065; email: Erika.Lee@nrc.gov.

SUPPLEMENTARY INFORMATION:

Discussion

A. General Information

The NRC performs periodic reviews of generic communications and withdraws them when they no longer provide useful information or are superseded by technological innovations or updated guidance. A withdrawal includes the original generic communication and any supplements or revisions. The NRC is currently publishing withdrawals of generic communications on a quarterly basis.

Withdrawal of the original generic communication and supplements, if applicable, will not affect the public's ability to obtain this information. The original generic communication and supplements will remain accessible through ADAMS and the NRC's generic communications Web site. The NRC's generic communication Web site will be updated to reflect the generic communications status as withdrawn. The generic communications Web site is accessible at https://www.nrc.gov/reading-rm/doc-collections/gen-comm/.

B. Withdrawals of Generic Communications

The following generic communications are withdrawn:

• Administrative Letter (AL) 1996-03, “Centralization of Quality Assurance Program Review Responsibility in the Office of Nuclear Reactor Regulation,” September 27, 1996 (ADAMS Accession No. ML031110120).

This AL discusses the transition of responsibilities for the review of quality assurance program (QAP) changes from the region to headquarters. These administrative changes do not impact the process for licensee submittals, since licensees are required to submit QAP changes via section 50.54(a) of title 10 of the Code of Federal Regulations (10 CFR), in accordance with 10 CFR 50.4.

• Generic Letter 1994-04, “Voluntary Reporting of Additional Occupational Radiation Exposure Data,” September 2, 1994 (ADAMS Accession No. ML031200443).

Updated requirements for data submission are contained in 10 CFR 20.1007, “Communications.”

• Information Notice (IN) 1993-03, “Recent Revisions to 10 CFR part 20 and Change of Implementation Date to January 1, 1994,” January 5, 1993 (ADAMS Accession No. ML031080060).

The implementation date of January 1, 1994 for compliance with 10 CFR part 20 has passed.

• IN 1993-80, “Implementation of the Revised 10 CFR 20,” October 8, 1993 (ADAMS Accession No. ML031070060).

The deadline of January 1, 1994 to be in compliance with 10 CFR part 20 has passed.

• Regulatory Information Summary 2014-03, “Notice of 10 CFR Part 37 Implementation Deadline for NRC Licensees,” March 13, 2014 (ADAMS Accession No. ML14052A157).

The deadline of March 19, 2014 to be in compliance with 10 CFR part 37 has passed.

Dated at Rockville, Maryland, this 12th day of April 2017.
For the Nuclear Regulatory Commission.
Sheldon D. Stuchell,
Chief, Generic Communications Branch, Division of Policy and Rulemaking, Office of Nuclear Reactor Regulation.

[FR Doc. 2017-07825 Filed 4-17-17; 8:45 am]

BILLING CODE 7590-01-P